DEPARTMENT OF ENERGY

Office of Energy Efficiency and Renewable Energy

10 CFR Part 430

[Docket Number: EE-RM/STD-01-350]

RIN 1904-AA78

Energy Efficiency Program for Consumer Products: Energy Conservation Standards for Residential Furnaces and Boilers

AGENCY: Office of Energy Efficiency and Renewable Energy, Department of Energy.

ACTION: Notice of public workshop and availability of the framework document for residential furnaces and boilers efficiency standards.

SUMMARY: The Department of Energy (DOE or Department) will hold an informal public workshop to discuss and receive comments on issues it will address and the process it will follow in considering the adoption of revised energy conservation standards for residential furnaces and boilers. The Department also encourages written comments on these subjects. To facilitate this process, the Department is preparing a Framework Document, a draft of which will be available on or about June 18, 2001.

DATES: The public workshop will be held on Tuesday, July 17, 2001, from 9:00 a.m. to 5:00 p.m. Written comments should be submitted by August 17, 2001.

ADDRESSES: The workshop will be held at the U.S. Department of Energy, Forrestal Building, Room 1E-245, 1000 Independence Avenue, SW., Washington, DC 20585. (Please note that foreign nationals visiting DOE Headquarters are subject to advance security screening procedures. If you are a foreign national and wish to participate in the workshop, please inform DOE of this fact as soon as possible by contacting Ms. Brenda Edwards-Jones at (202) 586-2945 so that the necessary procedures can be completed.)

On or about June 18, 2001, the draft Framework Document will be placed on the DOE website at: http://www.eren.doe.gov/buildings/codes_standards/

Written comments are welcome, especially following the workshop. Please submit written comments to: Ms. Brenda Edwards-Jones, U.S. Department of Energy, Office of Energy Efficiency and Renewable Energy, Energy Conservation Program for Consumer Products: Energy Conservation Standards for Residential Furnaces and Boilers, Docket Number: EE-RM/STD-01-350, EE-41, 1000 Independence Avenue, SW., Washington, DC 20585-0121. Telephone: (202) 586-2945; Telefax: (202) 586-4617. You should label comments both on the envelope and on the documents and submit them for DOE receipt by August 17, 2001. Please submit one signed copy of the document and a computer diskette (WordPerfect 8) or 10 copies (no telefacsimiles). The Department will also accept electronically-mailed comments, e-mailed to Brenda.Edwards-Jones@ee.doe.gov, but you must supplement such comments with a signed hard copy.

Copies of the transcript of the public workshop, the public comments received, the Framework Document, and this notice may be read at the Freedom of Information Reading Room, U.S. Department of Energy, Forrestal Building, Room 1E-190, 1000 Independence Avenue, SW., Washington, DC 20585, (202) 586-3142, between the hours of 9:00 a.m. and 4:00 p.m., Monday through Friday, except Federal holidays.

FOR FURTHER INFORMATION CONTACT: Cyrus Nasseri, U.S. Department of Energy, Office of Energy Efficiency and Renewable Energy, EE-41, 1000 Independence Avenue, SW., Washington, DC 20585-0121, (202) 586-9138, email: cyrus.nasseri@ee.doe.gov, or Eugene Margolis, Esq., U.S. Department of Energy, Office of General Counsel, GC-72, 1000 Independence Avenue, SW., Washington, DC 20585, (202) 586-9507, email: eugene.margolis@hq.doe.gov

SUPPLEMENTARY INFORMATION: Part B of Title III of the Energy Policy and Conservation Act, Public Law 94-163, as amended by the National Energy Conservation Policy Act (NECPA), Public Law 95-619; the National Appliance Energy Conservation Act (NAECA) of 1987, Public Law 100-12; the National Appliance Energy Conservation Amendments of 1988 (NAECA 1988), Public Law 100-357; and the Energy Policy Act of 1992 (EPACT), Public Law 102-486,¹ created the Energy Conservation Program for Consumer Products other than Automobiles (Program). The consumer products subject to this Program (referred to hereafter as “covered products”) include residential furnaces and boilers. EPCA section 325(f), 42 U.S.C 6295(f).

¹ Part B of Title III of the Energy Policy and Conservation Act, Pub. L. 94-163, as amended by the National Energy Conservation Policy Act (NECPA), Pub. L. 95-619; the National Appliance Energy Conservation Act (NAECA) of 1987, Pub. L. 100-12; the National Appliance Energy Conservation Amendments of 1988 (NAECA 1988), Pub. L. 100-357; and the Energy Policy Act of 1992 (EPACT), Pub. L. 102-486, is referred to in this notice as the “Act.”

For furnaces, the Act set the initial Federal energy conservation standard in terms of the Annual Fuel Utilization Efficiency (AFUE) descriptor at a minimum value of 78 percent for all furnaces except boilers (for which the minimum AFUE was set at 75 percent for gas steam boilers and 80 percent for other boilers), mobile home furnaces (for which the minimum AFUE was set at 75 percent), and “small” furnaces (which are explained below).

The Act did not establish a minimum efficiency for “small” furnaces, having an input of less than 45,000 British thermal units per hour, but required that the Department must publish a final rule by January 1, 1989, and set its minimum AFUE at a specific percent which is not less than 71 percent and not more than 78 percent. EPCA 325(f)(1)(B)(ii), 42 U.S.C. 6295(f)(1)(B)(ii). Accordingly, for these products, the Department published an Advance Notice of Proposed Rulemaking (ANOPR) (52 FR 46367, December 7, 1987) which presented a detailed discussion of the proposed analytical methodology and models and invited comments and data. On December 2, 1988, the Department published a Notice of Proposed Rulemaking (NOPR) (53 FR 48798, December 2, 1988) in which the Department proposed to establish an energy conservation standard of 78 percent AFUE for small gas furnaces, which was the highest level within the range (71 to 78 percent) for the Department to consider, as set by the Act. In a final rule (54 FR 47916, November 17, 1989), the Department set the minimum AFUE for these products at 78 percent, or the maximum value allowed by the Act, with an effective date of January 1, 1992.

The Act set initial efficiency standards for mobile home furnaces (for which the minimum AFUE was set at 75 percent) but also required that the Department must publish a final rule no later than January 1, 1992, to determine whether these standards should be amended, and if so, the effective date for those amendments was required to be January 1, 1994. The Department started this activity and issued an ANOPR (55 FR 39624, September 28, 1990), followed by a NOPR where it proposed a new energy descriptor and standard levels (59 FR 10464, March 4, 1994). Further activities on this rulemaking were interrupted by several events, including a fiscal year 1996 moratorium on proposing or issuing new or amended appliance energy conservation standards, and the development of an improved process for standard rulemaking by the Department, as described below.

The Department of the Interior and Related Agencies Appropriations Act for fiscal year 1996 included a moratorium on proposing or issuing new or amended appliance energy conservation standards during fiscal year 1996. Public Law 104-134. During this period, standard rulemaking activities were suspended while the Department continued to work on the underlying analyses for standards and on test procedure revisions. In September 1995, the Department announced a formal effort to improve the process it uses to develop appliance efficiency standards. Energy efficiency advocates, product manufacturers, trade associations, State agencies, utilities, and other interested parties were asked to provide substantial input into the Department's work, which resulted in the publication of a rule institutionalizing procedural enhancements. 61 FR 36973, July 15, 1996 (hereinafter referred to as the Process Rule).

In addition to setting the efficiency standards for mobile home furnaces, the Act also requires that the Department must publish a final rule to determine for all furnaces (including mobile home furnaces) whether the standards should be amended. The Act required that this final rule be published no later than January 1, 1994, and if it is determined that the standards should be amended, those amendments must be effective on January 1, 2002. EPCA, section 325(f)(3)(B), 42 U.S.C. 6295(f)(3)(B). The Department started this activity also. In September 1993, the Department published an ANOPR in which it presented for furnaces, the product classes that it planned to analyze, and a detailed discussion of the analytical methodology and models that it expected to use in doing the analysis to support this rulemaking. (58 FR 47326, September 8, 1993). The Department invited comments and data on the accuracy and feasibility of the planned methodology and encouraged interested persons to recommend improvements or alternatives to the approach taken by DOE. Due to the aforementioned moratorium and the development of the process improvement plan, the Department was unable to complete the required rulemaking for furnaces within the stipulated time frame of January 1, 1994.

In the Department's fiscal year 1998 Priority Setting for the Appliance Rulemaking Process, residential furnaces and boilers were assigned a low priority level, for which the Department did not plan to actively pursue rulemakings over the next two years, and the work was limited to basic technology investigation. In the fiscal year 2001 Priority Setting for the Appliance Rulemaking Process, residential furnaces and boilers were assigned a high level of priority, for which the Department plans to pursue the rulemaking actively through meetings, workshops, and published notices. Today's notice, the subject Framework Document, and the workshop mark the next steps in the process for updating the energy conservation standards for residential furnaces and boilers and mobile home furnaces covered by the statute.

The Department has prepared the Framework Document to explain and discuss the process, analyses, and issues concerning the development of such standards. For many of the issues and analyses, the Framework Document sets forth approaches that the Department is considering.

The main focus of the workshop will be to discuss the analyses and issues contained in various sections of the Framework Document. For each item listed in this document, the Department will make a presentation with discussion to follow. In addition, the Department will also make a brief presentation on the rulemaking process for residential furnaces and boilers. The Department encourages those who wish to participate in the workshop to obtain the Framework Document and be prepared to discuss its contents. However, workshop participants need not limit their discussions to these topics. The Department is also interested in receiving views concerning other issues that participants believe would affect energy conservation standards for residential furnaces and boilers. The Department also welcomes all interested parties, whether or not they participate in the workshop, to submit in writing by August 17, 2001, comments and information on the matters addressed in the Framework Document and on other matters relevant to consideration of standards for residential furnaces and boilers.

The workshop will be conducted in an informal, conference style. A court reporter will be present to record the minutes of the meeting. There shall be no discussion of proprietary information, costs or prices, market shares, or other commercial matters regulated by the U.S. antitrust laws.

After the workshop and expiration of the period for submitting written statements, the Department will begin collecting data and conducting the analyses as discussed at the workshop and in consideration of the comments received.

If you would like to participate in the workshop, receive workshop materials, or be added to the DOE mailing list to receive future notices and information regarding residential furnaces and boilers, please contact Ms. Brenda Edwards-Jones at (202) 586-2945.

Issued in Washington, DC, on June 13, 2001.
David K. Garman,
Assistant Secretary for Energy Efficiency and Renewable Energy.

[FR Doc. 01-15397 Filed 6-18-01; 8:45 am]

BILLING CODE 6450-01-P